AGENCY FOR INTERNATIONAL DEVELOPMENT

Meeting: Board for International Food and Agricultural Development

Pursuant to the Federal Advisory Committee Act, notice is hereby given of the public meeting of the Board for International Food and Agricultural Development (BIFAD). The meeting will be held from 8:30 a.m. to 4 p.m. EDT on Wednesday, October 21, 2015 in the South Ballroom of the Memorial Union at Purdue University, 101 N Grant St, West Lafayette, Indiana. The meeting will be streamed live on the Internet. The link to the global live stream is on BIFAD's home page: http://www.usaid.gov/bifad.

The central theme of this public meeting will be Crossroads: Science, Innovation, Markets, and Policy for Feeding the World. Dr. Brady Deaton, BIFAD Chair, will preside over the public business meeting, which will begin promptly at 8:30 a.m. EDT with opening remarks. At this meeting, the Board will address old and new business and hear updates from USAID, the university community, and other experts on climate-smart agriculture, plant sciences and the role of various constituents in feeding the world's population.

Starting at 9 a.m., Dr. Waded Cruzado, BIFAD Board Member will present the BIFAD Award for Scientific Excellence which recognizes individual researchers and/or a team of researchers for significant achievements in work performed through USAID's Feed the Future Innovation Labs.

Starting at 9:30 a.m., BIFAD will hear from the first panel hosted by Dr. Jeffrey Dukes, Director of the Purdue Climate Change Research Center and Professor of Forestry & Natural Resources and Biological Sciences. Dr. Thomas Hertel, Distinguished Professor of Agriculture will moderate the panel titled Climate-Smart Agriculture—Closing the Yield Gap in a Changing Climate. Presenters for this panel are Dr. Mitch Tuinstra, Professor of Plant Breeding and Genetics and Wickersham Chair; Dr. Linda Prokopy, Associate Professor, Natural Resource Science; and an additional panelist to be determined. The panel will conclude with a 15 minute comment period.

Starting at 11:15 a.m., Dr. Karen Plaut, Senior Associate Dean for Research and Faculty Affairs, will moderate a panel on Plant Sciences Research and Education Pipeline. Presenters for this panel are Dr. Melba Crawford, Associate Dean of Engineering for Research; Dr. Katy Rainey, Assistant Professor of Agronomy; and Dr. Jian Kang Zhu, Distinguished Professor of Plant Biology. This panel will conclude with a 15 minute comment period.

Starting at 2:15 p.m., Dr. Jay Akridge, Glen W. Sample Dean of Agriculture, will moderate a panel on US Ag Industry's Role in Feeding the World. Presenters for this panel are Ted McKinney, Director of the Indiana State Department of Agriculture; and Jim Moseley, a local farmer.

At 3:30 p.m., Chairman Deaton will moderate a half-hour public comment period. At 4 p.m. EDT Dr. Deaton, will make closing remarks and adjourn the public meeting. At 4 p.m., after the meeting has been adjourned, BIFAD and members of the public are invited to view the Purdue University poster display.

Those wishing to attend the meeting or obtain additional information about BIFAD should contact Susan Owens, Executive Director and Designated Federal Officer for BIFAD in the Bureau for Food Security at USAID. Interested persons may write to her in care of the U.S. Agency for International Development, Ronald Reagan Building, Bureau for Food Security, 1300 Pennsylvania Avenue NW., Room 2.09-067, Washington, DC, 20523-2110 or telephone her at (202) 712-0218.

Susan Owens,
Executive Director and USAID Designated Federal Officer for BIFAD, Bureau for Food Security, U.S. Agency for International Development.

[FR Doc. 2015-23418 Filed 9-16-15; 8:45 am]

BILLING CODE P